EXPORT-IMPORT BANK

[Public Notice 2025-3003]

Agency Information Collection Activities: Submission to the Office of Management and Budget for Review and Approval; Comment Request; EIB 95-10, Application for Credit Guarantee Facility and Long-Term Direct Loan or Guarantee

AGENCY: Export-Import Bank of the U.S.

ACTION: Submission for OMB Review and Comments Request.

SUMMARY: The Export-Import Bank of the United States (EXIM), as part of its continuing effort to reduce paperwork and respondent burden, invites the general public and other Federal Agencies to comment on the proposed information collection, as required by the paperwork Reduction Act of 1995.

DATES: Comments should be received on or before September 8, 2025 to be assured of consideration.

ADDRESSES: Comments may be submitted electronically on WWW.REGULATIONS.GOV (EIB 95-10) or by mail to Office of Information and Regulatory Affairs, 725 17th Street NW, Washington, DC 20038, Attn: OMB 3048-0013. The application can be viewed at https://img.exim.gov/s3fs-public/pub/pending/EIB%2095-10%20ELMS%20Application%202025.pdf.

FOR FURTHER INFORMATION CONTACT: To request additional information, please contact Donna Schneider <donna.schneider@exim.gov>, 202-565-3612.

SUPPLEMENTARY INFORMATION: EXIM enables U.S. exporters to compete fairly in foreign markets on the basis of price and product by neutralizing the effect of export credit insurance and guarantees offered by foreign governments and by absorbing credit risks that the private section will not accept.

Titles and Form Number: EIB 95-10, Application for Credit Guarantee Facility and Long-term Direct Loan or Guarantee.

OMB Number: 3048-0013.

Type of Review: Regular.

Need and Use: The information collected will provide information needed to determine compliance and creditworthiness for transaction requests submitted to EXIM under its credit guarantee facility and long-term guarantee and direct loan programs.

Affected Public: This form affects entities involved in the export of U.S. goods and services.

Annual Number of Respondents: 65.

Estimated Time per Respondent: 2.5 hours.

Annual Burden Hours: 162.5 hours.

Frequency of Reporting or Use: As needed.

Dated: August 5, 2025.
Andrew Smith,
Records Officer.

[FR Doc. 2025-15063 Filed 8-7-25; 8:45 am]

BILLING CODE 6690-01-P